DEPARTMENT OF LABOR

Office of the Secretary

Agency Information Collection Activities; Submission for OMB Review; Comment Request; National Longitudinal Survey of Youth 1997

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that agency receives on or before December 14, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The BLS seeks Office of Management and Budget approval to conduct interim supplement interviews between rounds 19 and 20 of the NLSY97. Respondents of the NLSY97 will undergo an interview of approximately 12 minutes on average, during which they will answer questions about labor market experiences, health, and income. The interim supplemental survey will be a conducted by internet and by telephone. We anticipate that approximately one-third of interviews will be self-administered by internet, with the remaining interviews being interviewer-administered by telephone. The BLS plans to record randomly selected segments of the interviews collected by telephone. Recording interviews helps the BLS and its contractors to ensure that the interviews actually took place and interviewers are reading the questions exactly as worded and entering the responses properly. Recording also helps to identify parts of the interview that might be causing problems or misunderstanding for interviewers or respondents. Each respondent will be informed that the interview may be recorded for quality control, testing, and training purposes. If the respondent objects to the recording of the interview, the interviewer will confirm to the respondent that the interview will not be recorded and then proceed with the interview. The interim supplemental survey will consist of approximately 35 questions. Similar questions have appeared in previous rounds of the NLSY97, the Current Population Survey, or the Census Household Pulse survey. The content covers household composition, current employment for the respondent and spouse/partner, changes in employment/earnings during the past 12 months due to the coronavirus pandemic, time spent teaching children under age 18, health, health insurance, having contracted the coronavirus, medical care deferred due to the coronavirus pandemic, mental health, income, and earnings. During the fielding period for the interim supplemental interviews, no more than 2 percent of respondents will be asked to participate in a brief validation interview a few weeks after the initial interview. The purpose of the validation interview is to verify that the initial interview took place as the interviewer reported and to assess the data quality of selected questionnaire items. For additional substantive information about this ICR, see the related notice published in the Federal Register on July 31, 2020 (85 FR 46187).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for the remainder of the current clearance period (expiring on August 31, 2022).

Agency: DOL-BLS.

Title of Collection: National Longitudinal Survey of Youth 1997.

OMB Control Number: 1220-0157.

Affected Public: Individuals and households.

Total Estimated Number of Respondents: 5,275.

Total Estimated Number of Responses: 5,380.

Total Estimated Annual Time Burden: 1,058 hours.

Total Estimated Annual Other Costs Burden: $0.

(Authority: 44 U.S.C. 3507(a)(1)(D))

Dated: November 6, 2020.
Anthony May,
Management and Program Analyst.

[FR Doc. 2020-25151 Filed 11-12-20; 8:45 am]

BILLING CODE 4510-24-P